FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends To take any action with respect to these proposed acquisitions during the applicable waiting period.

Trans # | Acquiring | Acquired | Entities
Transactions Granted Early Termination—01/26/2009
20090260 | Turin Networks, Inc | Force10 Networks, Inc | Force10 Networks, Inc.
20090261 | Munchener Ruckversicherungs-Gesellschaft AG in | American International Group, Inc | HSB Group, Inc.
20090262 | Local TV Holdings Raycom Media, Inc | LLC Community Television of Alabama License, LLC, Community Television of Alabama, LLC, FoxCo Acquisition, LLC
Transactions Granted Early Termination—01/27/2009
20090241 | Medtronic, Inc | Ablation Frontiers, Inc | Ablation Frontiers, Inc.
20090258 | Warburg Pincus Private Equity X, L.P | Nuance Communications, Inc | Nuance Communications, Inc.
Transactions Granted Early Termination—01/28/2009
20090238 | JP Morgan Chase & Co | DC Chemical Co., Ltd | Columbian Chemicals Holding LLC.
Transactions Granted Early Termination—01/29/2009
20081828 Getinge AB | Datascope Corp | Datascope Corp
Transactions Granted Early Termination—02/02/2009
20090271 | Lions Gate Entertainment Corp | Macrovision Solutions Corporation | TV Guide Entertainment Group, Inc.
20090278 | NPG Mistream & Resources, L.P | MarkWest Liberty Midstream & Resources, L.L.C | MarkWest Liberty Midstream & Resources, L.L.C.
Transactions Granted Early Termination—02/04/2009
20090243 | Glen A. Taylor | Golden Oval Eggs, LLC | AEI, LLC, GOEMCA, Inc., Golden Oval Eggs, LLC, Midwest Investors of Iowa.
Transactions Granted Early Termination—02/05/2009
20090264 | Electricité de France S.A | Constellation Energy Group, Inc | ACE Cogeneration Company, CER Generation II, LLC, Constellation Power Source Generation, Inc., Handsome Lake Energy LLC, Inter-Power/Ahlcon Partners L.P., Panther Creek Partners, Safe Harbor Water Power Corporation, Sunnyside Cogeneration Associates.
Transactions Granted Early Termination—02/09/2009
20090281 | Autonomy Corporation PLC | Interwoven, Inc | Interwoven, Inc.
Transactions Granted Early Termination—02/10/2009
20090277 Morgan Stanley | Morgan Stanley Smith Barney LLC | Morgan Stanley Smith Barney LLC
Transactions Granted Early Termination—02/12/2009
20090272 | Olympus Growth Fund V, LP | Kocher-Plastik H. Bohmer GmbH & Co. KG | Holopack International Corp.
Transactions Granted Early Termination—02/13/2009
20090284 | Unilever N.V | Mascolo Brothers Limited Mascolo Brothers Limited |
Transactions Granted Early Termination—02/17/2009
20090286 | JLL Partners Fund VI, L.P | PharmaNet Development Group, Inc | PharmaNet Development Group, Inc.

For Further Information Contact: Sandra M. Peay, Contact Representative or Renee Hallman, Contact Representative, Federal Trade Commission, Premerger Notification Office, Bureau of Competition, Room H-303, Washington, DC 20580. (202) 326-3100.

By Direction of the Commission.
Donald S. Clark,
Secretary.

[FR Doc. E9-4381 Filed 3-3-09; 8:45 am]

BILLING CODE 6750-01-M